DEPARTMENT OF DEFENSE

Department of the Air Force

Privacy Act of 1974; System of Records

AGENCY: Department of the Air Force, DoD.

ACTION: Notice to amend systems of records.

SUMMARY: The Department of the Air Force is amending three systems of records notices in its existing inventory of record systems subject to the Privacy Act of 1974, (5 U.S.C. 552a), as amended.

DATES: This proposed action will be effective without further notice on February 22, 2005 unless comments are received which result in a contrary determination.

ADDRESSES: Send comments to the Air Force Privacy Act Manager, Office of the Chief Information Officer, AF-CIO/P, 1155 Air Force Pentagon, Washington, DC 20330-1155.

FOR FURTHER INFORMATION CONTACT: Ms. Eugenia Harms at (703) 696-6280.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 11, 2005.
Jeannette Owings-Ballard,
OSD Federal Register Liaison Officer, Department of Defense.

F036 AETC L

System name:

Community College of the Air Force Student Record System (June 11, 1997, 62 FR 31793).

Changes:

* * * * *

System name:

Change entry to read ‘Community College of the Air Force Student Transcript, Administration, and Records System’.

System location:

Replace ‘6307’ with ‘6613’. Replace ‘System Development Branch’ with ‘Technology Support Division’.

* * * * *

F036 AETC L

System name:

Community College of the Air Force Student Transcript, Administration, and Records System.

System location:

The system is centrally administered by the Community College of the Air Force, 130 East Maxwell Boulevard, Maxwell Air Force Base, AL 36112-6613. Computer processing for the system is performed by the Technology Support Division.

Categories of individuals covered by the same system:

The system may have a record for any person who since January 1, 1968 has completed a formal course of instruction conducted by one of the Air Force schools identified in the current Community College of the Air Force General Catalog. Such courses do not include pre-commissioning courses and courses conducted exclusively for officers or their civilian counterparts. The system includes records reflecting Air Force courses completed before 1968 and other educational accomplishments for persons who as enlisted members of the Air Force registered in programs of study leading to credentials awarded by the college. Both here and where appropriate below, the general term Air Force includes the regular Air Force, the Air Force Reserve, and the Air National Guard.

Categories of records in the system:

Individual academic records and, where necessary to serve airmen registered in study programs leading to credentials awarded by the college, a variety of source or substantiating records such as copies of registration applications and document control records derived from such applications, civilian college transcripts, college level examination program score reports; copies of educational records originated by other Air Force and non-Air Force agencies external to the college (such as the Federal Aviation Agency, the United States Armed Forces Institute, and the Defense Activity for Non-traditional Education Support), copies of a variety of Air Force personnel records (such as documents derived from master records maintained by the Air Force Manpower and Personnel Center and microfiche records of locator data); and records of credentials awarded to graduates. The college also maintains copies and related records of communications from, to, or regarding persons interested in the college, its educational programs, its student record system, and related matters. Copies of and statistical records derived from individual responses to surveys, questionnaires, and similar instruments authorized by HQ USAF may also be maintained as needed for managerial evaluation and planning by officers of the college.

Authority for maintenance of the system:

10 U.S.C. 9315, Community College of the Air Force: associate degree; Air Force Instruction 36-2304, Community College of the Air Force, and E.O. 9397 (SSN).

Purpose(s):

Records originated in the system document, in terms of credit awarded or accepted in transfer by the college, individual educational accomplishments which satisfy curricular requirements of study programs leading to an Associate in Applied Science degree offered by the college. Transcripts of records in the college are, at the written request of persons concerned, furnished to any recipient(s) designated in such requests. Such recipients typically include Air Force Education Services Centers, other offices where Air Force personnel are stationed, educational institutions, and potential or current employers. CCAF transcripts and copies of other records originated in the college are also used to support educational and occupational counseling, planning, and development; admission to other colleges; and related individual affairs. Disclosures of information recorded in the system may be made to employees of civilian contractors engaged by the Air Force to provide services which directly or indirectly support the record system.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Permanent student computer records are maintained on and as necessary reproduced from magnetic media. Paper records are maintained in file folders, card files, and special binders/cabinets designed for computer listings.

Retrievability:

Computer records are retrievable by a combination of Social Security Number and certain letters of last name. Paper records are retrievable by either Social Security Number or name.

Safeguards:

Records maintained in the college are normally disclosed only upon written request from the subject of the records or upon written request from an Air Force officer or employee responsible to provide educational or related services to Air Force personnel. Disclosures to non-Air Force agencies not requested by the subject of the records require approval of an officer of the college. Except for disclosures within the college as may be necessary to its operations, requests by telephone and other unwritten means will not be honored unless in the judgment of a responsible member of the college staff the requester is a member or employee of the Air Force acting on behalf of, or is, the person whose record is requested. Special care is exercised to ensure complete identification of the requester, the person whose record is to be disclosed, and intended use. Other systematic safeguards to ensure integrity of records include secure storage of successive generations of computer master files, existence and long-term retention in other Air Force facilities of records needed to rebuild the entire system in the event of catastrophe, and traditional measures to ensure the security of Air Force facilities. All records in the system are attended by responsible Air Force personnel during duty hours and stored in locked facilities under constant or periodic surveillance by Air Force security police during non-duty hours. Those in computer storage devices are protected by computer system software.

Retention and disposal:

Retained in office files until superseded, obsolete, no longer needed for reference. Academic records maintained in the Student Transcript, Administration, and Records System are retained as permanent records in accordance with the American Association of Collegiate Registrars and Admissions Officers' publication Retention of Records dated 1987. Active master file records on the computer are by their nature evolutionary and will be maintained permanently. Paper records maintained to serve students registered in study programs are retained so long as a registrant remains active in his or her program. Such records are destroyed 1 year after a registrant completes his or her study program. Other records are typically retained only so long as they may serve a useful purpose, which is typically between 30 and 90 days. Computer records are destroyed by erasing, deleting or overwriting.

System manager(s) and address:

Director of Admissions/Registrar, Community College of the Air Force, 130 East Maxwell Boulevard, Maxwell Air Force Base, AL 36112-6613.

Notification procedure:

Persons who have not registered in the college should address inquiries regarding records maintained by the college to Chief, Student Records Branch, Community College of the Air Force, 130 East Maxwell Boulevard, Maxwell Air Force Base, AL 36112-6613. Persons who have registered in the college may address inquiries as above or to Chief, Academic Programs Division, also at Maxwell Air Force Base. Such inquiries will need to include the full name (and former names if appropriate), Social Security Number, and birth date of the inquirer, and should include a full return address (including ZIP Code). Visits to the college are welcomed, and visitors seeking information about personal records should first visit the Office of the Registrar.

Record access procedures:

Individuals seeking to access records about themselves contained in this system should address requests to the System Manager, or to addresses listed above.

Visits to the college are welcomed, and visitors seeking information about personal records should first visit the Office of the Registrar.

Contesting record procedures:

The Air Force rules for accessing records, and for contesting contents and appealing initial agency determinations are published in Air Force Instruction 33-332; 32 CFR part 806b; or may be obtained from the system manager.

Record source categories:

Information obtained from educational institutions, automated system interfaces and from source documents submitted to the college by or at the request of individuals concerned, or by other Air Force agencies acting on behalf of individuals concerned.

Exemptions claimed for the system:

None.

F036 AETC N

System name:

Student Record Folder (June 11, 1997, 62 FR 31793).

Changes:

* * * * *

Storage:

Add to entry ‘and on computers and computer output products’.

Retrievability:

Add to entry ‘Social Security Number’.

Safeguards:

Add to entry ‘Records in computer storage devices are protected by computer system software.’

* * * * *

F036 AETC N

System name:

Student Record Folder.

System location:

Air University, Maxwell Air Force Base, AL 36112-6335 and at each Air University Professional Military School/Course at Maxwell Air Force Base, and Gunter Air Force Annex, AL 36118-5643.

Categories of individuals covered by the system:

Military and civilian students.

Categories of records in the system:

Individual student folder containing test results, speech and writing critiques, interview/counseling record, faculty rating, and other documents pertaining to student administration.

Authority for maintenance of the system:

10 U.S.C. 8013, Secretary of the Air Force; AF Instruction 36-2301, Professional Military Education; and E.O. 9397 (SSN).

Purpose(s):

Used by faculty and staff of applicable school/course to evaluate and record performance/progress of student, and to determine suitability for future faculty position.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained in file folders and on computers and computer output products.

Retrievability:

Retrieved by name and Social Security Number.

Safeguards:

Records are accessed by custodian of the record system and by person(s) responsible for servicing the record system in performance of their official duties and who are properly screened and cleared for need-to-know. Records are stored in locked cabinets or rooms. Records in computer storage devices are protected by computer system software.

Retention and disposal:

Retained in office files until graduation or elimination from training, then destroyed by tearing into pieces, shredding, pulping, macerating, or burning.

System manager(s) and address:

Director of Curriculums. Submanagers: Director of Administration (DA) at each school/course; AWC, 325 Chennault Circle, Maxwell AFB, AL 36112-6427; ACSC, 225 Chennault Circle, Maxwell AFB, AL 36112-6426; SOS, 125 Chennault Circle, Maxwell AFB, AL 36112-6430.

Notification procedure:

Individuals seeking to determine whether information about themselves is contained in this system should address written inquiries to or visit the Director of Student Affairs at the applicable school. Provide name, Social Security Number.

Record access procedures:

Individuals seeking access to information about themselves contained in this system should address written inquiries to or visit the Director of Student Affairs at each applicable school (AWC, ACSC, SOS). Official mailing addresses are published as an appendix to the Air Force's compilation of systems of records notices.

Contesting record procedures:

The Air Force rules for accessing records, and for contesting contents and appealing initial agency determinations are published in Air Force Instruction 33-332; 32 CFR part 806b; or may be obtained from the system manager.

Record source categories:

Individual student, instructor and source documents such as reports.

Exemptions claimed for the system:

None.

F036 AETC P

System Name:

Student Questionnaire (June 11, 1997, 62 FR 31793).

Changes:

* * * * *

Storage:

Replace entry with ‘Maintained in file folders, computers, and computer output products.’

Retrievability:

Replace entry with ‘Retrieved by name and Social Security Number.’

Safeguards:

Add to entry ‘Records in computer storage devices are protected by computer system software.’

* * * * *

F036 AETC P

System name:

Student Questionnaire.

System location:

Air University, Maxwell Air Force Base, AL 36112. Subsystems are located at the Air War College, Air Command and Staff College, Squadron Officers School, Maxwell Air Force Base, AL 36112.

Categories of individuals covered by the system:

All students attending Air War College (AWC), Air Command and Staff College (ACSC), and Squadron Officers School (SOS).

Categories of records in the system:

Questionnaire including military data such as name, Social Security Number, grade, age, flying data, education data, personal data and locator data.

Authority for maintenance of the system:

10 U.S.C. 8013, Secretary of the Air Force; AF Instruction 36-2301, Professional Military Education; and E. O. 9397 (SSN).

Purpose(s):

Primary use is to gather statistical data for analysis by management analysis personnel, subsequent publication of data in AU quarterly program summary. Used by applicable PME school for locator and other administrative purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained in file folders, computers, and computer output products.

Retrievability:

Retrieved by name and Social Security Number.

Safeguards:

Records are accessed by custodian of the record system and by person(s) responsible for servicing the record system in performance of their official duties and who are properly screened and cleared for need-to-know. Records are stored in locked cabinets or rooms. Records in computer storage devices are protected by computer system software.

Retention and disposal:

Retained in office files until graduation or elimination from training, then destroyed by tearing into pieces, shredding, pulping, macerating, or burning.

System Manager(s) and address:

Dean of Students, AWC, 325 Chennault Circle, Maxwell AFB, AL 36112-6427; Director of Technology, ACSC, 225 Chennault Circle, Maxwell AFB, AL 36112-6426; and Student Services, SOS, 125 Chennault Circle, Maxwell AFB, AL 36112-6430.

Notification procedure:

Individuals seeking to determine whether information about themselves is contained in this system should address written inquiries to or visit AWC Dean of Students, 325 Chennault Circle, Maxwell AFB, AL 36112-6427; ACSC Dean of Education and Curriculum, 225 Chennault Circle, Maxwell AFB, AL 36112-6426; and SOS Student Services, 125 Chennault Circle, Maxwell AFB, AL 36112-6430.

Record access procedures:

Individuals seeking access to information about themselves contained in this system should address written inquiries to or visit AWC Dean of Students, 325 Chennault Circle, Maxwell AFB, AL 36112-6427; ACSC Dean of Education and Curriculum, 225 Chennault Circle, Maxwell AFB, AL 36112-6426; and SOS Student Services, 125 Chennault Circle, Maxwell AFB, AL 36112-6430.

Contesting record procedures:

The Air Force rules for accessing records, and for contesting contents and appealing initial agency determinations are published in Air Force Instruction 33-332; 32 CFR part 806b; or may be obtained from the system manager.

Record source categories:

Individual student.

Exemptions claimed for the system:

None.

[FR Doc. 05-1054 Filed 1-19-05; 8:45 am]

BILLING CODE 5001-06-M